DEPARTMENT OF TRANSPORTATION

Federal Aviation Administration

14 CFR Part 39

[Docket No. FAA-2012-1160; Directorate Identifier 2012-NM-096-AD; Amendment 39-17381; AD 2013-05-09]

RIN 2120-AA64

Airworthiness Directives; Airbus Airplanes

AGENCY: Federal Aviation Administration (FAA), Department of Transportation (DOT).

ACTION: Final rule.

SUMMARY: We are adopting a new airworthiness directive (AD) for certain Airbus Model A330-200, -300, and -200 Freighter series airplanes; and all Airbus Model A340-200 and -300 series airplanes. This AD was prompted by a determination that the bonding lead from a certain isolation valve to a frame was too close to an electrical harness, which might cause chafing between the electrical harness and the associated bonding lead. This chafing could lead to a short circuit of the isolation valve and consequent non-closure of the isolation valve, which would prevent the air flow to be shut off in case of fire. This AD requires modifying the bonding lead installation of the isolation valve. We are issuing this AD to prevent such chafing, which could result in non-closure of the isolation valve in the event of a fire and consequent damage to the airplane and injury to its occupants.

DATES: This AD becomes effective April 24, 2013.

The Director of the Federal Register approved the incorporation by reference of certain publications listed in this AD as of April 24, 2013.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Vladimir Ulyanov, Aerospace Engineer, International Branch, ANM-116, Transport Airplane Directorate, FAA, 1601 Lind Avenue SW., Renton, WA 98057-3356; telephone (425) 227-1138; fax (425) 227-1149.

SUPPLEMENTARY INFORMATION:

Discussion

We issued a notice of proposed rulemaking (NPRM) to amend 14 CFR part 39 to include an AD that would apply to the specified products. That NPRM was published in the Federal Register on November 7, 2012 (77 FR 66764). That NPRM proposed to correct an unsafe condition for the specified products. The Mandatory Continuing Airworthiness Information (MCAI) states:

It was noticed in production that the bonding lead from the isolation valve 283HN to Frame (FR) 64, between Stringer (STGR) 33 and STGR 34, was too close to the electrical harness 5871VB. The results of the technical investigations carried out by Airbus determined that this insufficient clearance may cause chafing between the electrical harness 5871VB and the associated bonding lead.

This condition, if not corrected, could lead to a short circuit of the isolation valve and consequent non-closure of the isolation valve 283HN, which would prevent the air flow to be shut-off in case of fire, potentially resulting in damage to the aeroplane and injury to its occupants.

For the reasons described above, this European Aviation Safety Agency (EASA) AD requires the installation of a new bonding bracket and new bonding lead at STGR33, between FR64 and FR65 introduced by Airbus modification (mod.) 201500, or mod. 201681 in production, or Airbus Service Bulletin (SB) A330-21-3165, SB A330-21-3160 or SB A340-21-4152 in service.

In addition, for aeroplanes already modified in accordance with the instructions of Airbus SB A330-21-3165, SB A330-21-3160 or SB A340-21-4152 at original issue or Revision 01, it [this EASA AD] requires accomplishment of the additional work (additional wiring connected to the structure of the aeroplane).

You may obtain further information by examining the MCAI in the AD docket.

Comments

We gave the public the opportunity to participate in developing this AD. We received no comments on the NPRM (77 FR 66764, November 7, 2012) or on the determination of the cost to the public.

Actions Since the NPRM (77 FR 66764, November 7, 2012) Was Issued

Since the NPRM (77 FR 66764, November 7, 2012) was issued, Airbus has issued Mandatory Service Bulletin A330-21-3165, Revision 03, dated December 7, 2012 (for Model A330-201, -202, -203, -223, -243, -301, -302, -303, -321, -322, -323, -341, -342, and -343 airplanes); and Mandatory Service Bulletin A340-21-4152, Revision 03, dated December 7, 2012 (for Model A340-211, -212, -213, -311, -312, and -313 airplanes). No additional work is required by these revisions for airplanes modified by Airbus Mandatory Service Bulletin A330-21-3165, Revision 02, dated March 29, 2012; or Airbus Mandatory Service Bulletin A340-21-4152, Revision 02, dated March 29, 2012; as applicable.

We have changed paragraphs (g), (h), and (k) (which was identified as paragraph (j) in the NPRM (77 FR 66764, November 7, 2012)) of this AD to refer to Airbus Mandatory Service Bulletin A330-21-3165, Revision 03, dated December 7, 2012; and Airbus Mandatory Service Bulletin A340-21-4152, Revision 03, dated December 7, 2012. We also have added new paragraph (i) to this AD to give credit for actions accomplished before the effective date of this AD performed using previous service information and have re-identified subsequent paragraphs accordingly.

Conclusion

We reviewed the available data and determined that air safety and the public interest require adopting the AD with the changes described previously—except for minor editorial changes. We have determined that these minor changes:

• Are consistent with the intent that was proposed in the NPRM (77 FR 66764, November 7, 2012) for correcting the unsafe condition; and

• Do not add any additional burden upon the public than was already proposed in the NPRM (77 FR 66764, November 7, 2012).

Costs of Compliance

We estimate that this AD will affect 58 products of U.S. registry. We also estimate that it will take about 6 work-hours per product to comply with the basic requirements of this AD. The average labor rate is $85 per work-hour. Required parts will cost about $66 per product. Where the service information lists required parts costs that are covered under warranty, we have assumed that there will be no charge for these parts. As we do not control warranty coverage for affected parties, some parties may incur costs higher than estimated here. Based on these figures, we estimate the cost of this AD to the U.S. operators to be $33,408, or $576 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 66764, November 7, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-05-09 Airbus: Amendment 39-17381. Docket No. FAA-2012-1160; Directorate Identifier 2012-NM-096-AD.

(a) Effective Date

This airworthiness directive (AD) becomes effective April 24, 2013.

(b) Affected ADs

None.

(c) Applicability

This AD applies to the Airbus airplanes identified in paragraphs (c)(1), (c)(2), and (c)(3) of this AD, certificated in any category.

(1) Model A330-201, -202, -203, -223, -243, -301, -302, -303, -321, -322, -323, -341, -342, and -343 airplanes, all manufacturer serial numbers, except for airplanes on which Airbus modification 201500 has been embodied in production.

(2) Model A330-223F and -243F airplanes, all manufacturer serial numbers, except for airplanes on which Airbus modification 201681 has been embodied in production.

(3) Model A340-211, -212, -213, -311, -312, and -313 airplanes, all manufacturer serial numbers.

(d) Subject

Air Transport Association (ATA) of America Code 21, Air conditioning.

(e) Reason

This AD was prompted by a determination that the bonding lead from a certain isolation valve to a frame was too close to an electrical harness, which might cause chafing between the electrical harness and the associated bonding lead. This chafing could lead to a short circuit of the isolation valve and consequent non-closure of the isolation valve, which would prevent the air flow to be shut off in case of fire. We are issuing this AD to prevent such chafing, which could result in non-closure of the isolation valve in the event of a fire and consequent damage to the airplane and injury to its occupants.

(f) Compliance

You are responsible for having the actions required by this AD performed within the compliance times specified, unless the actions have already been done.

(g) Bonding Lead Installation Modification

Within 48 months after the effective date of this AD, modify the bonding lead installation of isolation valve 283HN, in accordance with the Accomplishment Instructions of the applicable service bulletin specified in paragraph (g)(1), (g)(2), or (g)(3) of this AD.

(1) Airbus Mandatory Service Bulletin A330-21-3165, Revision 03, dated December 7, 2012 (for Model A330-201, -202, -203, -223, -243, -301, -302, -303, -321, -322, -323, -341, -342, and -343 airplanes).

(2) Airbus Mandatory Service Bulletin A330-21-3160, dated August 4, 2011 (for Model A330-223F and -243F airplanes).

(3) Airbus Mandatory Service Bulletin A340-21-4152, Revision 03, dated December 7, 2012 (for Model A340-211, -212, -213, -311, -312, and -313 airplanes).

(h) Bonding Lead Additional Work Modification

For airplanes that have already been modified prior to the effective date of this AD, as specified in Airbus Mandatory Service Bulletin A330-21-3165, dated September 27, 2011, or Mandatory Service Bulletin A330-21-3165, Revision 01, dated November 21, 2011; or Airbus Mandatory Service Bulletin A340-21-4152, dated September 27, 2011, or Airbus Mandatory Service Bulletin A340-21-4152, Revision 01, dated November 21, 2011: Within 48 months after the effective date of this AD, perform the “Additional Work” specified in the Accomplishment Instructions of Airbus Mandatory Service Bulletin A330-21-3165, Revision 03, dated December 7, 2012; or Airbus Mandatory Service Bulletin A340-21-4152, Revision 03, dated December 7, 2012; as applicable.

(i) Credit for Previous Actions

This paragraph provides credit for actions required by paragraphs (g) and (h) of this AD, if those actions were performed before the effective date of this AD using Airbus Mandatory Service Bulletin A330-21-3165, Revision 02, dated March 29, 2012; or Airbus Mandatory Service Bulletin A340-21-4152, Revision 02, dated March 29, 2012; as applicable; which are not incorporated by reference in this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

(1) Refer to MCAI European Aviation Safety Agency Airworthiness Directive 2012-0090, dated May 22, 2012, and the following service information, for related information.

(i) Airbus Mandatory Service Bulletin A330-21-3160, dated August 4, 2011.

(ii) Airbus Mandatory Service Bulletin A330-21-3165, Revision 03, dated December 7, 2012.

(iii) Airbus Mandatory Service Bulletin A340-21-4152, Revision 03, dated December 7, 2012.

(2) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Airbus Mandatory Service Bulletin A330-21-3160, dated August 4, 2011.

(ii) Airbus Mandatory Service Bulletin A330-21-3165, Revision 03, dated December 7, 2012.

(iii) Airbus Mandatory Service Bulletin A340-21-4152, Revision 03, dated December 7, 2012.

(3) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on March 1, 2013.
Ali Bahrami,
Manager, Transport Airplane Directorate, Aircraft Certification Service.

[FR Doc. 2013-05836 Filed 3-19-13; 8:45 am]

BILLING CODE 4910-13-P